ENVIRONMENTAL PROTECTION AGENCY

[FRL-8960-7]

Proposed Administrative Agreement and Order on Consent Pursuant to the Comprehensive Environmental Response, Compensation, and Liability Act for Certain Remedial Activities at the South Minneapolis Residential Soil Contamination Site

AGENCY: U.S. Environmental Protection Agency (“EPA”).

ACTION: Notice; Request for public comment on proposed CERCLA administrative agreement and order on consent with Open Arms of Minnesota for the South Minneapolis Residential Soil Contamination Superfund Site.

SUMMARY: Notification is hereby given of a proposed administrative agreement concerning certain remedial activities at the South Minneapolis Residential Soil Contamination hazardous waste site in Minneapolis, Minnesota (the “Site”). EPA proposes to enter into this agreement under the authority of sections 122, 106 and 107 of the Comprehensive Environmental Response, Compensation and Liability Act of 1984, as amended (“CERCLA”), with the approval and participation of the U.S. Department of Justice. The proposed agreement has been executed by Open Arms of Minnesota (the “Settling Party”).

Under the proposed agreement, the Settling Party, which represents that it is a Bona Fide Prospective Purchaser under CERCLA, would perform the remedial actions required under EPA's September 5, 2008 Record of Decision for the Settling Party's properties at 2514 and 2518 Bloomington Avenue South, Minneapolis, Minnesota. The Settling Party would also pay EPA's costs of overseeing these actions.

For thirty days following the date of publication of this notice, EPA will receive written comments relating to this proposed agreement. EPA will consider all comments received and may decide not to enter this proposed agreement if comments disclose facts or considerations which indicate that the proposed agreement is inappropriate, improper or inadequate.

DATES: Comments on the proposed agreement must be received by EPA on or before October 23, 2009.

ADDRESSES: Comments should be addressed to the Docket Clerk, U.S. Environmental Protection Agency, Region 5, 77 West Jackson Boulevard, Chicago, Illinois 60604-3590, and should refer to: In the Matter of South Minneapolis Residential Soil Contamination Site, Minneapolis, Minnesota, U.S. EPA Docket No. V-W-09C-935.

FOR FURTHER INFORMATION CONTACT: Thomas J. Krueger, U.S. Environmental Protection Agency, Office of Regional Counsel, C-14J, 77 West Jackson Boulevard, Chicago, Illinois 60604-3590, (312) 886-0562, Krueger.Thomas@epa.gov.

A copy of the proposed administrative settlement agreement may be obtained in person or by mail from the EPA's Region 5 Office of Regional Counsel, 77 West Jackson Boulevard, Chicago, Illinois 60604-3590. Additional background information relating to the settlement is available for review at the EPA's Region 5 Office of Regional Counsel.

Authority: The Comprehensive Environmental Response, Compensation, and Liability Act, as amended, 42 U.S.C. 9601-9675.

Dated: September 4, 2009.
Doug S. Ballotti,
Acting Director, Superfund Division, Region 5.

[FR Doc. E9-22937 Filed 9-22-09; 8:45 am]

BILLING CODE 6560-50-P